DEPARTMENT OF COMMERCE

Foreign-Trade Zones Board

[Docket No. 33-99]

Foreign-Trade Zone 59—Lincoln, NE; Application for Expansion of Manufacturing Authority Subzone 59A, Kawasaki Motors Manufacturing Corp., U.S.A., Plant, Lincoln, NE; Amendment of Application

Notice is hereby given that the application by the Lincoln Foreign Trade Zone, Inc., grantee of Foreign-Trade Zone 59, requesting an expansion of the scope of manufacturing authority to include new manufacturing capacity under FTZ procedures and requesting authority to expand the boundary of FTZ 59A at the Kawasaki Motors Manufacturing Corp., U.S.A. (KMM), plant in Lincoln, Nebraska (64 FR 37496, 7-12-99), has been amended to include an additional 732,000 square feet of production area to the previously-announced expansion. The additional square footage would result in a new configuration for Subzone 59A of 2.9 million square feet on 332 acres, with a revised subzone boundary.

The application remains otherwise unchanged.

The comment period is reopened until March 26, 2001.

Dated: February 21, 2001.
Dennis Puccinelli,
Executive Secretary

[FR Doc. 01-4776 Filed 2-26-01; 8:45 am]

BILLING CODE 3510-DS-P